DEPARTMENT OF COMMERCE

National Oceanic and Atmospheric Administration

[I.D. 011300B]

South Atlantic Fishery Management Council; Public Meeting

AGENCY: National Marine Fisheries Service (NMFS), National Oceanic and Atmospheric Administration (NOAA), Commerce.

ACTION: Notice of public meeting.

SUMMARY: The South Atlantic Fishery Management Council (Council) will convene a meeting of its Snapper Grouper Assessment Group to review the greater amberjack assessment and develop recommendations to the Council; review control rules and rebuilding timeframes for selected species within the snapper grouper complex and develop recommendations; review wreckfish catches and an assessment including a report on permits, shares and tranfers. The Assessment Group will meet with the Wreckfish Advisory Panel to make recommendations on Total Allowable Catch (TAC) and other framework actions, draft a wreckfish assessment group report, review a report on trends and updated Spawning Potential Ratio (SPR) estimates and make recommendations. The Snapper Grouper Assessment Group will review and discuss other related documents including: compliance reports, logbook reports, snowy grouper and golden tilefish quotas, greater amberjack quotas, hooking mortality, an Oculina research report and a Marine Reserves Public Information Document. The Assessment Group will also review the 1999 report to Congress by NMFS: “Status of Fisheries of the United States” and make recommendations to the Council.

DATES: The meeting will be held on February 3, 2000, from 9:00 a.m. to 5:30 p.m., and on February 4, 2000, from 8:30 a.m. to 5:00 p.m.

ADDRESSES: The meeting will be held at The Marshall House, 123 E. Broughton Street, Savannah, GA; telephone: 1-800-589-6304.

FOR FURTHER INFORMATION CONTACT: Kim Iverson, Public Information Officer; telephone: (843) 571-4366; fax: (843) 769-4520; email: kim.iverson@noaa.gov.

SUPPLEMENTARY INFORMATION: Although non-emergency issues not contained in this agenda may come before the Council for discussion, in accordance with the Magnuson-Stevens Fishery Conservation and Management Act, those issued may not be the subject of formal action during these meetings. Action will be restricted to those issues specifically identified in the notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by January 28, 2000.

Dated: January 13, 2000.
Bruce C. Morehead,
Acting Director, Office of Sustainable Fisheries, National Marine Fisheries Service.

[FR Doc. 00-1351 Filed 1-19-00; 8:45 am]

BILLING CODE 3510-22-F